FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received no later than January 10, 2017.

A. Federal Reserve Bank of Minneapolis (Jacquelyn K. Brunmeier, Assistant Vice President) 90 Hennepin Avenue, Minneapolis, Minnesota 55480-0291:

1. The Jane Salland Trust dated December 16, 2015, Jane Salland and Andrea Falconieri, trustees, and Andrea Falconieri, individually, all of Denver, Colorado; to acquire voting shares of Heritage Bancshares Group, Inc. (HBGI), Spicer, Minnesota, and thereby join the Geiger family shareholder group, which controls HBGI and indirectly controls Heritage Bank, National Association, Spicer, Minnesota.

B. Federal Reserve Bank of Chicago (Colette A. Fried, Assistant Vice President) 230 South LaSalle Street, Chicago, Illinois 60690-1414:

1. Robert David Becker, individually and as trustee for The Harold M. Becker Irrevocable Children's Trust, Cedar Rapids, Iowa, together with Sherri A. Becker, Kansas City, Missouri, Linda Deaktor, Chatsworth, California, Deborah B. Josephson, as trustee for the Deborah B. Josephson Revocable Trust, Omaha, Nebraska, Erik Leibsohn, Paradise Vally, Arizona, Steve Liebsohn, Scottsdale, Arizona, and Matthew Rose, Phoenix, Arizona; as a group acting in concert to retain control of Guaranty Bankshares, Ltd. and thereby indirectly retain control of Guaranty Bank and Trust Company, both in Cedar Rapids, Iowa.

Board of Governors of the Federal Reserve System, December 21, 2016.
Yao-Chin Chao,
Assistant Secretary of the Board.

[FR Doc. 2016-31179 Filed 12-23-16; 8:45 am]

BILLING CODE 6210-01-P